DEPARTMENT OF ENERGY

Federal Energy Regulatory Commission

Staff Notice of Alleged Violations

Take notice ¹ that in a nonpublic investigation pursuant to 18 CFR part 1b (2015), the staff of the Office of Enforcement of the Federal Energy Regulatory Commission has preliminary determined that Saracen Energy Midwest, LP, violated Southwest Power Pool, Inc.'s Open Access Transmission Tariff, Attachment AE, 7.4.1(4), by submitting bids for Transmission Congestion Rights at Electronically Equivalent Settlement Locations between August 2014 and March 2015.

¹ Enforcement of Statutes, Regulations, and Orders, 129 FERC ¶ 61,247 (2009), order on reh'g, 134 FERC ¶ 61,054 (2011).

This Notice does not confer a right on third parties to intervene in the investigation or any other right with respect to the investigation.

Dated: May 6, 2016.
Kimberly D. Bose,
Secretary.

[FR Doc. 2016-11224 Filed 5-11-16; 8:45 am]

BILLING CODE 6717-01-P